POSTAL REGULATORY COMMISSION

39 CFR Part 3011

[Docket No. RM2019-13; Order No. 5407]

Reorganization of Postal Regulatory Commission Rules; Correction

AGENCY: Postal Regulatory Commission.

ACTION: Correcting amendment.

SUMMARY: On April 20, 2020, the Postal Regulatory Commission revised Commission rules. The publication of that document incorrectly omitted a portion of a rule. This document corrects the final regulations by including the omitted portion.

DATES: Effective on August 31, 2021.

FOR FURTHER INFORMATION CONTACT: David A. Trissell, General Counsel, at 202-789-6820.

SUPPLEMENTARY INFORMATION: In a rule published on February 19, 2020 (85 FR 9614), effective April 20, 2020, amendatory instruction 51 for § 3011.300 revised paragraph (a) in its entirety, instead of revising paragraph (a) introductory text, which lead to paragraphs (a)(1) through (5) being omitted from the CFR. This document corrects the error by adding paragraphs (a)(1) through (5) to § 3011.300.

List of Subjects in 39 CFR Part 3011

Administrative practice and procedure, Confidential business information.

For the reasons set out in the preamble, 39 CFR part 3011 is corrected by making the following correcting amendment:

PART 3011—NON-PUBLIC MATERIALS PROVIDED TO THE COMMISSION

1. The authority for part 3011 continues to read as follows:

Authority: 39 U.S.C. 503, 504.

2. Amend § 3011.300 by adding paragraphs (a)(1) through (5) to read as follows:

§ 3011.300 Eligibility for access to non-public materials.

(a) * * *

(1) Members of the Commission;

(2) Commission employees, including Public Representatives, carrying out their official responsibilities;

(3) Non-employees who have executed appropriate non-disclosure agreements (such as contractors, attorneys, or subject matter experts), assisting the Commission in carrying out its duties;

(4) Reviewing courts and their staffs; and

(5) Court reporters, stenographers, or persons operating audio or video recording equipment for such court reporters or stenographers at hearings or depositions.

* * * * *

By the Commission.
Erica A. Barker,
Secretary.

[FR Doc. 2021-18746 Filed 8-30-21; 8:45 am]

BILLING CODE 7710-FW-P